DEPARTMENT OF COMMERCE

Census Bureau

Proposed Information Collection; Comment Request; Annual Capital Expenditures Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before September 14, 2018.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument(s) and instructions should be directed to Valerie Mastalski, U.S. Census Bureau, Room HQ-8K073, Washington, DC 20233; (301) 763-3317 (or via the internet at Valerie.Cherry.Mastalski@census.gov).

SUPPLEMENTARY INFORMATION:

I. Abstract

The U.S. Census Bureau plans to conduct the 2018 through 2020 Annual Capital Expenditures Survey (ACES). This survey collects data on fixed assets and depreciation, sales and receipts, capitalized computer software, and capital expenditures for new and used structures and equipment. The ACES is the sole source of detailed comprehensive statistics on actual business spending for private non-farm companies, organizations, and associations operating in the United States. Both employer and nonemployer companies are included in the survey.

The Bureau of Economic Analysis is the primary Federal user of ACES data. BEA relies on ACES data to refine and evaluate annual estimates of investment in structures and equipment in the national income and product accounts, compile annual input-output tables, and compute gross domestic product by industry. The Federal Reserve Board uses these data to improve estimates of investment indicators for monetary policy. The Bureau of Labor Statistics uses these data to improve estimates of capital stocks for productivity analysis. The Centers for Medicare and Medicaid Services use these data for developing estimates of investment in private health care structures and equipment as a part of the National Health Expenditure Accounts. Industry analysts use these data for market analysis, economic forecasting, identifying business opportunities, product development, and business planning.

Planned changes from the previous ACES are the elimination of detailed capital expenditures by type of structure and type of equipment. These data are collected in years ending in -2 and -7, concurrently with the Economic Census. They are not in scope of this notice, which covers ACES data collection for 2018 through 2020.

The Census Bureau does plan to add questions on the dollar value of new and used robotics expenditures beginning with the 2018 survey. These questions will gauge prevalence of robotics use by detail North American Industry Classification System (NAICS) industries.

II. Method of Collection

The initial mailing will include a letter instructing respondents to report online. The Census Bureau eliminated the use of paper forms with the 2016 ACES. The electronic reporting system provides a cost-effective and user-friendly method to collect data from companies. The Census Bureau will supply companies with a unique authentication code for the electronic reporting tool. Respondents will have the option of printing out a worksheet that lists all of the questions. Respondents will be able to print the worksheet to use as a guide to respond or can print the worksheet after completing the questionnaire as a record of their response. The online reporting instrument is tailored to the company's diversity of operations and number of industries with payroll. Employer companies will complete the ACE-1 electronic reporting instrument and nonemployers will complete the ACE-2 electronic reporting instrument.

Companies will be asked to respond to the survey within 30 days of the initial mailing. The Census Bureau will use reminder letters and/or telephone calls to encourage participation of companies that have not responded within 30 days.

III. Data

OMB Control Number: 0607-0782.

Form Number: ACE-1 and ACE-2.

Type of Review: Regular submission.

Affected Public: Private, non-farm businesses or other for-profit organizations; non-profit institutions.

Estimated Number of Respondents: Approximately 70,127 (50,127 employer companies, and 20,000 nonemployer businesses).

Estimated Time per Response: The average for all respondents is 2.27 hours. For employer companies completing form ACE-1, the range is 2 to 17 hours, averaging 2.78 hours. For companies completing form ACE-2, the range is less than 1 hour to 2 hours, averaging 1 hour.

Estimated Total Annual Burden Hours: 159,134 hours.

Estimated Total Annual Cost: $0. (This is not the cost of respondents' time, but the indirect costs respondents may incur for such things as purchases of specialized software or hardware needed to report, or expenditures for accounting or records maintenance services required specifically by the collection.)

Respondents' Obligation: Mandatory.

Legal Authority: Title 13 United States Code, Sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-15070 Filed 7-13-18; 8:45 am]

BILLING CODE 3510-07-P